SOCIAL SECURITY ADMINISTRATION

[Docket No: SSA-2020-0008]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2020-0008].

I. The information collection below is pending at SSA. SSA will submit it to OMB within 60 days from the date of this notice. To be sure we consider your comments, we must receive them no later than April 27, 2020. Individuals can obtain copies of the collection instruments by writing to the above email address.

Requests for Self-Employment Information, Employee Information, and Employer Information—20 CFR 422.120—0960-0508. When SSA cannot identify Form W-2 wage data for an individual, we place the data in an earnings suspense file and contact the individual (and in certain instances the employer) to obtain the correct information. If the respondent furnishes the name and Social Security Number (SSN) information that agrees with SSA's records, or provides information that resolves the discrepancy, SSA adds the reported earnings to the respondent's Social Security record. We use Forms SSA-L2765, SSA-L3365, and SSA-L4002 for this purpose. The respondents are self-employed individuals and employees whose name and SSN information do not agree with their employer's and SSA's records.

Type of Request: Revision of an OMB approved information collection.

Modality of completion | Number of respondents | Frequency of response | Average burden per response (minutes) | Estimated total annual burden (hours) | Average theoretical hourly cost amount (dollars) * | Total annual opportunity cost (dollars) **
SSA-L2765 | 12,321 | 1 | 10 | 2,054 | * 22.50 | ** 46,215
SSA-L3365 | 179,749 | 1 | 10 | 29,958 | 22.50 | ** 674,055
SSA-L4002 | 121,679 | 1 | 10 | 20,280 | * 22.50 | ** 456,300
Totals | 313,749 |  |  | 52,292 |  | ** 1,176,570
* We based these figures on average U.S. citizen's hourly salary, as reported by Bureau of Labor Statistics data.
** This figure does not represent actual costs that SSA is imposing on recipients of Social Security payments to complete this application; rather, these are theoretical opportunity costs for the additional time respondents will spend to complete the application. There is no actual charge to respondents to complete the application.

II. SSA submitted the information collection below to OMB for clearance. Your comments regarding this information collection would be most useful if OMB and SSA receive them 30 days from the date of this publication. To be sure we consider your comments, we must receive them no later than March 27, 2020. Individuals can obtain copies of the OMB clearance packages by writing to OR.Reports.Clearance@ssa.gov.

Consent Based Social Security Number Verification Process—20 CFR 400.100—0960-0760. The Consent Based Social Security Number Verification (CBSV) process is a fee-based automated SSN verification service available to private businesses and other requesting parties. To use the system, private businesses and requesting parties must register with SSA and obtain valid consent from SSN holders prior to verification. We collect the information to verify if the submitted name and SSN match the information in SSA records. After completing a registration process and paying the fee, the requesting party can use the CBSV process to submit a file containing the names of number holders who gave valid consent, along with each number holder's accompanying SSN and date of birth (if available) to obtain real-time results using a web service application or SSA's Business Services Online (BSO) application. SSA matches the information against the SSA master file of SSNs, using SSN, name, date of birth, and gender code (if available). The requesting party retrieves the results file from SSA, which indicates only a match or no match for each SSN submitted.

Under the CBSV process, the requesting party does not submit the consent forms of the number holders to SSA. SSA requires each requesting party to retain a valid consent form for each SSN verification request. The requesting party retains the consent forms in either electronic or paper format.

SSA added a strong audit component to ensure the integrity of the CBSV process. At the discretion of the agency, we require audits (called “compliance reviews”) with the requesting party paying all audit costs. Independent certified public accounts (CPAs) conduct these reviews to ensure compliance with all the terms and conditions of the party's agreement with SSA, including a review of the consent forms. CPAs conduct the reviews at the requesting party's place of business to ensure the integrity of the process. In addition, SSA reserves the right to perform unannounced onsite inspections of the entire process, including review of the technical systems that maintain the data and transaction records. The respondents to the CBSV collection are the participating companies; members of the public who consent to the SSN verification; and CPAs who provide compliance review services.

Type of Request: Revision of an OMB-approved information collection.

Time Burden

Requirement | Number of respondents | Frequency of response | Number of responses | Average burden per response (minutes) | Estimated total annual burden (hours) | Average theoretical hourly cost amount (dollars) * | Total annual opportunity cost (dollars) **
Participating Companies
Registration process for new participating companies | *** 10 | 1 | 10 | 120 | 20 | * 36.98 | ** 740
Creation of file with SSN holder identification data; maintaining required documentation/forms | 80 | **** 251 | 20,080 | 60 | 20,080 | * 36.98 | ** 742,558
Using the system to upload request file, check status, and download results file | 80 | 251 | 20,080 | 5 | 1,673 | * 36.98 | ** 61,868
Storing Consent Forms | 80 | 251 | 20,080 | 60 | 20,080 | * 36.98 | ** 742,558
Activities related to compliance review | 80 | 251 | 20,080 | 60 | 20,080 | * 36.98 | ** 742,558
Totals | 330 |  | 80,330 |  | 61,933 |  | ** 2,290,282
Participating Companies Who Opt for External Testing Environment (ETE)
ETE Registration Process (includes reviewing and completing ETE User Agreement) | 30 | 1 | 1 | 180 | 90 | * 36.98 | ** 3,328
Web Service Transactions | 30 | 50 | 1,500 | 1 | 25 | * 36.98 | ** 925
Reporting Issues Encountered on Web service testing (e.g., reports on application's reliability) | 30 | 50 | 1,500 | 1 | 25 | * 36.98 | ** 925
Reporting changes in users' status (e.g., termination or changes in users' employment status; changes in duties of authorized users) | 30 | 1 | 1 | 60 | 30 | * 36.98 | ** 1,109
Cancellation of Agreement | 30 | 1 | 1 | 30 | 15 | * 36.98 | ** 555
Dispute Resolution | 30 | 1 | 1 | 120 | 60 | * 36.98 | ** 2,219
Totals | 180 |  | 3,004 |  | 245 |  | ** 9,061
People Whose SSNs SSA Will Verify
Reading and signing authorization for SSA to release SSN verification (Form SSA-89) | 2,500,000 | 1 | 2,500,000 | 3 | 125,000 | * 10.22 | ** 1,277,500
Responding to CPA re-contact | 4,000 | 1 | 4,000 | 5 | 333 | * 36.98 | ** 12,314
Totals | 2,504,000 |  | 2,504,000 |  | 125,333 |  | ** 1,289,814
* We based these figures on average Business and Financial operations occupations hourly salaries, as reported by Bureau of Labor Statistics data, and per average DI payments, as reported in SSA's disability insurance payment data.
** This figure does not represent actual costs that SSA is imposing on recipients of Social Security payments to complete this application; rather, these are theoretical opportunity costs for the additional time respondents will spend to complete the application. There is no actual charge to respondents to complete the application.
*** One-time registration process/approximately 10 new participating companies per year.
**** Please note there are 251 Federal business days per year on which a requesting party could submit a file.

There is one CPA respondent conducting compliance reviews and preparing written reports of findings. The average burden per the 80 responses is 4,800 minutes for a total burden of 6,400 hours annually.

Cost Burden

The public cost burden is dependent upon the number of companies and transactions per year. In FY 2019, 80 companies enrolled; 80 companies submitted an advance; and 70 actually performed verifications. The cost estimates below are based upon 80 participating companies in FY 2019 (includes an average of 10 new companies per year since 2016) submitting a total of 2,500,000 transactions.

One-Time per Company Registration Fee—$5,000.

Estimated per SSN Transaction Fee—$1.00.

Estimated per Company Cost to Store Consent Forms—$300.

Dated: February 21, 2020.
Naomi Sipple,
Reports Clearance Officer, Social Security Administration.

[FR Doc. 2020-03847 Filed 2-25-20; 8:45 am]

BILLING CODE 4191-02-P